FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on whether the proposed transaction complies with the standards enumerated in the HOLA (12 U.S.C. 1467a(e)).

Comments regarding each of these applications must be received at the Reserve Bank indicated or the offices of the Board of Governors, Ann E. Misback, Secretary of the Board, 20th Street and Constitution Avenue NW, Washington, DC 20551-0001, not later than May 26, 2021.

A. Federal Reserve Bank of Philadelphia (William Spaniel, Senior Vice President) 100 North 6th Street, Philadelphia, Pennsylvania 19105-1521. Comments can also be sent electronically to Comments.applications@phil.frb.org:

1. WSFS Financial Corporation, Wilmington, Delaware; to merge with Bryn Mawr Bank Corporation, and therefore indirectly acquire The Bryn Mawr Trust Company, both of Bryn Mawr, Pennsylvania. Bryn Mawr Bank Corporation has applied to become a savings and loan holding company, pursuant to section 10(e) of the HOLA, with respect to Bryn Mawr Trust Company's conversion into a stock federal savings association.

Board of Governors of the Federal Reserve System, April 21, 2021.
Michele Taylor Fennell
Deputy Associate Secretary of the Board.

[FR Doc. 2021-08663 Filed 4-26-21; 8:45 am]

BILLING CODE 6210-01-P